DEPARTMENT OF HEALTH AND HUMAN SERVICES

Food and Drug Administration

[Docket No. FDA-2025-N-0183]

Agency Information Collection Activities; Submission for Office of Management and Budget Review; Comment Request; Establishing and Maintaining Lists of United States Establishments With Interest in Exporting Human Food Program-Regulated Products

AGENCY: Food and Drug Administration, HHS.

ACTION: Notice.

SUMMARY: The Food and Drug Administration (FDA) is announcing that a proposed collection of information has been submitted to the Office of Management and Budget (OMB) for review and clearance under the Paperwork Reduction Act of 1995.

DATES: Submit written comments (including recommendations) on the collection of information by September 22, 2025.

ADDRESSES: To ensure that comments on the information collection are received, OMB recommends that written comments be submitted to https://www.reginfo.gov/public/do/PRAMain. Find this particular information collection by selecting “Currently under Review—Open for Public Comments” or by using the search function. The OMB control number for this information collection is 0910-0509. Also include the FDA docket number found in brackets in the heading of this document.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: In compliance with 44 U.S.C. 3507, FDA has submitted the following proposed collection of information to OMB for review and clearance.

Establishing and Maintaining Lists of U.S. Establishments With Interest in Exporting HFP-Regulated Products

OMB Control Number 0910-0509—Extension

This information collection supports Agency export programs and associated guidance. The United States exports a large volume and variety of foods in international trade. Foreign governments often require official certification from the responsible authority of the country of origin about imported foods and establishments involved in their production, storage, or distribution. Some foreign governments establish additional requirements with which exporters are required to comply and ask for additional assurances from the responsible authority. Importing countries may require, and FDA may provide, official certification or assurances for food products in different forms, including certificates that accompany specific products or lists of establishments and products that comply with certain requirements.

To facilitate exports of food subject to importing country listing requirements, FDA has historically provided official certification in the form of country- and product-specific export lists that include establishments and their products when: (1) the establishment has expressed interest in exporting their products to these countries; (2) the establishment and the products are subject to FDA's jurisdiction; and (3) the establishment can demonstrate that it is in good regulatory standing for the products it intends to export, and the products are expected to comply with applicable FDA requirements. As we advised in the guidance document “Establishing and Maintaining a List of U.S. Milk and Milk Product, Seafood, Infant Formula, and Formula for Young Children Manufacturers/Processors with Interest in Exporting to China,” FDA considers “good regulatory standing” as meaning that an establishment is in substantial compliance with applicable FDA requirements and is not the subject of a pending enforcement action (e.g., an injunction or seizure) or pending administrative action (e.g., a warning letter).

FDA has generally published guidance documents for these country and product-specific lists under the authority of section 701(h) of the Federal Food, Drug, and Cosmetic Act (FD&C Act) (21 U.S.C. 371(h)), which authorizes the Secretary of Health and Human Services (the Secretary) to develop guidance documents with public participation presenting the views of the Secretary on matters under the jurisdiction of FDA. The guidance documents generally explain what information establishments should submit to FDA to be considered for inclusion on the lists and what criteria FDA intends to use to determine eligibility for placement on the lists. The guidance documents also explain how FDA intends to update the lists and communicate any new information to the governments that requested the lists. Finally, the guidance documents note that the information is provided voluntarily by establishments with the understanding that it may be posted on FDA's external website and that it will be communicated to, and possibly further disseminated by, the government that requested the list; thus, FDA considers the information on the lists to be information that is not protected from disclosure under 5 U.S.C. 552(b)(4). The guidance documents include “Establishing and Maintaining a List of U.S. Dairy Product Manufacturers/Processors with Interest in Exporting to Chile” (November 2018) and “Establishing and Maintaining a List of U.S. Milk and Milk Product, Seafood, Infant Formula, and Formula for Young Children Manufacturers/Processors with Interest in Exporting to China” (November 2018) available at https://www.fda.gov/food/guidance-regulation-food-and-dietary-supplements/guidance-documents-regulatory-information-topic-food-and-dietary-supplements. Additional information about FDA's Food Export Lists program is available at https://www.fda.gov/food/exporting-food-products-united-states/food-export-lists. FDA has also published guidance on export certification that contains useful information that applies to export lists: “FDA Export Certification” (August 2021) available at https://www.fda.gov/regulatory-information/search-fda-guidance-documents/fda-export-certification.

Foreign governments are increasingly relying on certification as a strategy for ensuring the safety of imported food products, and many countries have announced new requirements for lists of establishments and products certified to comply with certain food safety requirements. FDA is committed to facilitating compliance with new listing requirements for U.S. establishments that export FDA-regulated food products by establishing and maintaining country- and product-specific export lists.

Application for inclusion on all export lists will continue to be voluntary. However, some foreign governments may require inclusion on export lists as a precondition for market access or to satisfy other importing country registration or approval requirements. FDA uses the Export Listing Module (ELM), an electronic system (Form FDA 3972), to receive and process applications for inclusion on export lists for HFP-regulated products. The ELM allows applicants to provide information about the products intended for export, the establishment that produces those products, evidence of the establishment's compliance with applicable requirements for the products intended for export, and any additional data or information (such as third-party certifications) that foreign governments may require. We request that this information be updated every 2 years. Additional information and screenshots of the ELM are available at https://www.fda.gov/food/exporting-food-products-united-states/food-export-lists. If an establishment is unable to submit an application via the ELM, it may contact HFP and request assistance.

We use the information submitted by establishments to determine eligibility for certification and inclusion on the export lists, which may be published on our website or the websites of foreign governments. The purpose of the lists is to help HFP-regulated industries meet the import requirements of foreign governments. This collection of information is intended to cover all of HFP's existing export lists, as well as any additional export lists established by the program.

FDA notes section 801 of the FD&C Act (21 U.S.C. 381) also provides that FDA may charge a fee of up to $175 if the Agency issues export certification within 20 days of receipt of a complete request for such certification.

Description of Respondents: Respondents to this collection of information include U.S. establishments subject to FDA/HFP jurisdiction that wish to be included on export lists.

In the Federal Register of May 1, 2025 (90 FR 18688), FDA published a 60-day notice requesting public comment on the proposed collection of information. We received two comments, believing one to have been posted erroneously to docket FDA-2025-N-0183 because it discussed vaccines. The second comment offered general support for the information collection and suggested technical enhancements to FDA's collection mechanisms. Because FDA developed the ELM to facilitate the export of food and avoid delay, we appreciate this comment. At the same time, we are only able to make updates to our automated systems as our limited resources allow. We made no adjustment to our estimate after review of the public comments.

FDA estimates the burden of this collection of information as follows:

Table 1—Estimated Annual Reporting Burden¹
IC activity recommended by guidance | Number of respondents | Number of responses per respondent | Total annual responses | Average burden per response (hours) | Total hours
New request | 167 | 5 | 835 | 1 | 835
New request + third-party certification | 85 | 2 | 170 | 22 | 3,740
Biennial update | 132 | 4 | 528 | 0.5 (30 minutes) | 264
Biennial update + third-party certification | 58 | 2 | 116 | 22 | 2,552
Occasional updates | 60 | 2 | 120 | 0.5 (30 minutes) | 60
Total |  |  | 1,769 |  | 7,451
¹ There are no capital costs or operating and maintenance costs associated with this collection of information.

Based on a review of the information collection since our last request for OMB approval, we have made no adjustments to our burden estimate.

Dated: August 15, 2025.
Grace R. Graham,
Deputy Commissioner for Policy, Legislation, and International Affairs.

[FR Doc. 2025-16075 Filed 8-21-25; 8:45 am]

BILLING CODE 4164-01-P